SECURITIES AND EXCHANGE COMMISSION

17 CFR Part 230

General Rules and Regulations, Securities Act of 1933

CFR Correction

This rule is being published by the Office of the Federal Register to correct an editorial or technical error that appeared in the most recent annual revision of the Code of Federal Regulations.

In Title 17 of the Code of Federal Regulations, Parts 200 to 239, revised as of April 1, 2022, make the following corrections:

§ 230.482 [Corrected]

1. Amend § 230.482 in paragraph (a) by removing the note with the heading “Note to Paragraph (a)”.

§ 230.498 [Corrected]

2. Amend § 230.498 in paragraph (f)(2) by removing the phrase “a Notice under § 270.30e-3 of this chapter,” after “Summary Prospectus”, and adding “a Notice under § 270.30e-3 of this chapter,” after the phrase “Statutory Prospectuses,”.

[FR Doc. 2023-06287 Filed 3-23-23; 8:45 am]

BILLING CODE 0099-10-P